JUDICIAL CONFERENCE OF THE UNITED STATES

Hearing of the Judicial Conference Committee on Evidence

AGENCY: Judicial Conference of the United States, Advisory Committee on Evidence.

ACTION: Notice of Cancellation of Open Hearing.

SUMMARY: The following public hearing on proposed amendments to the Federal Rules of Evidence has been canceled: Evidence Rules Hearing, January 7, 2012, Phoenix, Arizona.

FOR FURTHER INFORMATION CONTACT: Benjamin J. Robinson, Deputy Rules Officer and Counsel, Administrative Office of the United States Courts, Washington, DC 20544, telephone (202) 502-1820.

Dated: December 8, 2011.
Benjamin J. Robinson,
Rules Committee Deputy and Counsel.

[FR Doc. 2011-32401 Filed 12-16-11; 8:45 am]

BILLING CODE 2210-55-P